FEDERAL COMMUNICATIONS COMMISSION

[OMB 3060-0391; FRS 16489]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the PRA that does not display a valid OMB control number.

DATES: Written PRA comments should be submitted on or before April 14, 2020. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-0391.

Title: Parts 54 and 36, Program to Monitor the Impacts of the Universal Service Support Mechanisms.

Form Number: N/A.

Type of Review: Extension of a currently approved collection.

Respondents: Business or other for-profit entities.

Number of Respondents and Responses: 65 respondents; 260 responses.

Estimated Time per Response: 227 minutes (3.783 hours).

Frequency of Response: Quarterly reporting requirement and third-party disclosure requirement.

Obligation to Respond: Required to obtain or retain benefits. Statutory authority for this information collection is contained in 47 U.S.C. 151, 152, 154, 201-205, 215, 218, 220, 229, 254, and 410.

Total Annual Burden: 984 hours.

Total Annual Cost(s): No cost.

Privacy Act Impact Assessment: No impact(s).

Nature and Extent of Confidentiality: The data requested are regarded as non-proprietary. If the FCC requests that respondents submit information which respondents believe is confidential, respondents may request confidential treatment of such information pursuant to Section 0.459 of the FCC's rules, 47 CFR 0.459.

Needs and Uses: The monitoring program is necessary for the Commission, the Federal-State Joint Board on Universal Service, Congress and the general public to assess the impact of the universal service support mechanisms. This information collection has become a valuable tool to review network usage and growth data and the advancement of universal service. The Commission is reporting a 124 hour increase in the total hour burden based on updated information from the National Exchange Carrier Association [NECA] regarding the number of respondents/responses.

Federal Communications Commission.
Marlene Dortch,
Secretary.

[FR Doc. 2020-02994 Filed 2-13-20; 8:45 am]

BILLING CODE 6712-01-P